INTERNATIONAL TRADE COMMISSION

[Investigation No. 337-TA-798]

Certain Light-Emitting Diodes and Products Containing Same; Determination Not To Review an Initial Determination Granting-in-Part Complainants' Motion To Amend the Complaint; Notice of Investigation

AGENCY: U.S. International Trade Commission.

ACTION: Notice.

SUMMARY: Notice is hereby given that the U.S. International Trade Commission has determined not to review the presiding administrative law judge's (“ALJ”) initial determination (“ID”) (Order No. 15) granting-in-part the motion of complainants Samsung LED Co., Ltd. of Suwon City, South Korea and Samsung LED America, Inc. of Atlanta, Georgia (collectively “SLED”) to amend the Complaint and Notice of Investigation (NOI).

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on August 18, 2011, based on a complaint filed by SLED. 76 FR 51396-97 (Aug. 18, 2011). A corrected Notice of Investigation was issued on August 16, 2011, indicating that the Office of Unfair Import Investigations will not participate as a party in this investigation. 76 FR 52348-49 (Aug. 22, 2011). The complaint alleges violations of section 337 of the Tariff Act of 1930, as amended, 19 U.S.C. 1337, in the importation into the United States, the sale for importation, and the sale within the United States after importation of certain light-emitting diodes and products containing same by reason of infringement of certain claims of U.S. Patent Nos. 7,268,372; 7,282,741; 7,771,081; 7,893,443; 7,838,315; 7,959,312; and 7,964,881. The complaint further alleges the existence of a domestic industry. The Commission's notice of investigation named as respondents OSRAM GmbH of Munich, Germany (“OSRAM GmbH”); OSRAM Opto Semiconductors GmbH of Regensburg, Germany; OSRAM Opto Semiconductors Inc. of Sunnyvale, California; and OSRAM Sylvania Inc. of Danvers, Massachusetts (collectively “OSRAM”).

On October 18, 2011, SLED filed a motion to amend the Complaint and NOI to: (1) Change the name of respondent OSRAM GmbH to OSRAM AG to reflect its recent change in corporate form; (2) add Siemens AG, Siemens Corporation, and Siemens Industry, Inc. (collectively “Siemens”) as respondents; and (3) add Hella KGaA Hueck & Co., Hella Electronics Corporation, Hella Corporate Center USA, Inc., and Hella Inc. (collectively “Hella”) as respondents. On October 28, 2011, OSRAM and proposed respondents Siemens and Hella filed oppositions to the motion with respect to adding Siemens and Hella as respondents.

On November 21, 2011, the ALJ issued the subject ID, granting-in-part SLED's motion with respect to changing the name of respondent OSRAM GmbH to OSRAM AG. The ALJ denied the remainder of the motion. No petitions for review of this ID were filed.

The Commission has determined not to review the ID.

The authority for the Commission's determination is contained in section 337 of the Tariff Act of 1930, as amended (19 U.S.C. 1337), and in section 210.42 of the Commission's Rules of Practice and Procedure (19 CFR 210.42).

Issued: December 7, 2011.
By order of the Commission.
James R. Holbein,
Secretary to the Commission.

[FR Doc. 2011-31856 Filed 12-12-11; 8:45 am]

BILLING CODE 7020-02-P